DEPARTMENT OF HEALTH AND HUMAN SERVICES

Indian Health Service

Notice of Proposed Purchased/Referred Care Delivery Area Redesignation for the Chippewa Cree Tribe of the Rocky Boy's Reservation

AGENCY: Indian Health Service, HHS.

ACTION: Notice.

SUMMARY: This Notice advises the public that the Indian Health Service (IHS) proposes to expand the geographic boundaries of the Purchased/Referred Care Delivery Area (PRCDA) for the Chippewa Cree Tribe of the Rocky Boy's Reservation (“Chippewa Cree Tribe” or “Tribe”) to include the Montana county of Cascade. The current PRCDA for the Chippewa Cree Tribe includes the Montana counties of Choteau, Hill and Liberty. Chippewa Cree Tribal members who reside outside of the PRCDA are eligible for direct care services; however, they are not eligible for Purchased/Referred Care (PRC) services. The sole purpose of this expansion would be to authorize additional Chippewa Cree Tribal members and beneficiaries to receive PRC services.

DATES: Comments must be submitted by January 16, 2025.

ADDRESSES: In commenting, please refer to file code [Federal Register insert file code number]. Because of staff and resource limitations, we cannot accept comments by facsimile (FAX) transmission. You may submit comments in one of four ways (please choose only one of the ways listed):

1. Electronically. You may submit electronic comments on this regulation to http://www.regulations.gov. Follow the “Submit a Comment” instructions.

2. By regular mail. You may mail written comments to the following address ONLY: Carl Mitchell, Director, Division of Regulatory and Policy Coordination, Indian Health Service, 5600 Fishers Lane, Mail Stop: 09E70, Rockville, Maryland 20857.

Please allow sufficient time for mailed comments to be received before the close of the comment period.

3. By express or overnight mail. You may send written comments to the above address.

4. By hand or courier. If you prefer, you may deliver (by hand or courier) your written comments before the close of the comment period to the address above.

If you intend to deliver your comments to the Rockville address, please call telephone number (301) 443-1116 in advance to schedule your arrival with a staff member.

Inspection of Public Comments: All comments received before the close of the comment period are available for viewing by the public, including any personally identifiable or confidential business information that is included in a comment.

FOR FURTHER INFORMATION CONTACT: CAPT John Rael, Director, Office of Resource Access and Partnerships, Indian Health Service, 5600 Fishers Lane, Mail Stop: 10E85C, Rockville, Maryland 20857. Telephone (301) 443-0969 (This is not a toll-free number).

SUPPLEMENTARY INFORMATION: The IHS provides services under regulations in effect as of September 15, 1987, and republished at 42 CFR part 136, subparts A-C. Subpart C defines a Contract Health Service Delivery Area (CHSDA), now referred to as a PRCDA, as the geographic area within which PRC will be made available by the IHS to members of an identified Indian community who reside in the PRCDA. Residence within a PRCDA by a person who is within the scope of the Indian health program, as set forth in 42 CFR 136.12, creates no legal entitlement to PRC services but only potential eligibility for services. Services needed, but not available at an IHS/Tribal facility, are provided under the PRC program depending on the availability of funds, the relative medical priority of the services to be provided, and the actual availability and accessibility of alternate resources in accordance with the regulations.

The regulations at 42 CFR part 136, subpart C provide that, unless otherwise designated, a PRCDA shall consist of a county which includes all or part of a reservation and any county or counties which have a common boundary with the reservation. 42 CFR 136.22(a)(6). The regulations also provide that after consultation with the Tribal governing body or bodies on those reservations included within the PRCDA, the Secretary may, from time to time, redesignate areas within the United States for inclusion in or exclusion from a PRCDA. 42 CFR 136.22(b). The regulations require that certain criteria be considered before any redesignation is made. The criteria are as follows:

(1) The number of Indians residing in the area proposed to be so included or excluded;

(2) Whether the Tribal governing body has determined that Indians residing in the area near the reservation are socially and economically affiliated with the Tribe;

(3) The geographic proximity to the reservation of the area whose inclusion or exclusion is being considered; and

(4) The level of funding which would be available for the provision of PRC.

Additionally, the regulations require that any redesignation of a PRCDA be made in accordance with the procedures of the Administrative Procedure Act (5 U.S.C. 553). 42 CFR 136.22(c). In compliance with this requirement, the IHS is publishing this Notice and requesting public comments.

The Chippewa Cree Tribe of the Rocky Boy's Reservation is located Hill and Choteau Counties of Montana. The Chippewa Cree Tribe operates their PRC program under an Indian Self-Determination and Education Assistance Act agreement with the IHS. The Chippewa Cree Tribe has requested that the IHS expand its PRCDA to include Cascade County, Montana. The requested PRCDA redesignation would share Cascade County with the PRCDA of the Little Shell Tribe of Chippewa Indians of Montana (“Little Shell Tribe”). The Billings Area held discussions with the Little Shell Tribe, during which the Little Shell Tribe did not raise any objections to the expansion of the Chippewa Cree Tribe's PRCDA to include Cascade County. Under 42 CFR 136.23, those otherwise eligible Indians who do not reside on a reservation, but reside within a PRCDA, must be either members of the Tribe or other IHS beneficiaries who maintain close economic and social ties with the Tribe. In this case, applying the aforementioned PRCDA redesignation criteria required by operative regulations codified at 42 CFR part 136, subpart C, the following findings are made:

1. By expanding the PRCDA to include Cascade County, Montana, the IHS and the Chippewa Cree Tribe estimate that the Tribe's PRC eligible population would increase by an estimated 251 Tribal members.

2. As part of their expansion request, the Chippewa Cree Tribe submitted a resolution from the Tribe's governing body. The resolution explains that the expansion is intended to serve their members living in Cascade County, Montana and it describes those members as being socially and economically tied to the Tribe's reservation. The IHS therefore finds that the Tribal members within the proposed, expanded PRCDA are socially and economically affiliated with the Chippewa Cree Tribe.

3. The expanded PRCDA county forms a contiguous area with the existing PRCDA. Members of the Chippewa Cree Tribe reside in the county proposed for inclusion in the expanded PRCDA. Through their expansion request, the Tribe described how close Cascade County, Montana is to their reservation and explained that it is close enough for their members residing there to return frequently to the Tribe's reservation for ceremony and participation in Tribal elections. For these reasons, the IHS has determined the additional county proposed for inclusion herein to be geographically proximate, meaning “on or near,” to the Tribe's reservation.

4. Through the Chippewa Cree Tribe's request to expand its PRCDA, the Tribe has indicated that the PRC program can continue providing the same level of care to the PRC eligible population if the PRCDA is expanded as proposed, without requiring additional funding from the IHS or reduction of the current medical priority level.

Accordingly, the IHS proposes to expand the PRCDA of the Chippewa Cree Tribe to include the county of Cascade in the state of Montana.

This Notice does not contain reporting or recordkeeping requirements subject to prior approval by the Office of Management and Budget under the Paperwork Reduction Act of 1980.

Roselyn Tso,
Director, Indian Health Service.

[FR Doc. 2024-29689 Filed 12-16-24; 8:45 am]

BILLING CODE 4166-14-P